DEPARTMENT OF THE INTERIOR

Office of Surface Mining Reclamation and Enforcement

30 CFR Parts 700, 724, 773, 785, 816, 817, 845, 846, 870, 872, 873, 874, 875, 876, 879, 880, 882, 884, 885, 886, and 887

[Docket Id: OSM-2008-0003]

RIN 1029-AC56

Abandoned Mine Land Program

AGENCY: Office of Surface Mining Reclamation and Enforcement, Interior.

ACTION: Proposed rule; extension of the comment period.

SUMMARY: We, the Office of Surface Mining Reclamation and Enforcement (OSM), are extending the comment period on a proposed rule that would revise the Abandoned Mine Land (AML) program. The proposed rule would revise our regulations to be consistent with the Surface Mining Control and Reclamation Act of 1977 (SMCRA), as amended by the Tax Relief and Health Care Act of 2006, Public Law 109-432, signed into law on December 20, 2006.

DATES: Comments on the proposed rule must be received on or before August 29, 2008, in order to ensure our consideration.

ADDRESSES: You may submit comments by any of the following methods:

• Federal e-Rulemaking Portal: http://www.regulations.gov. The rule is listed under the agency name “OFFICE OF SURFACE MINING RECLAMATION AND ENFORCEMENT.” The proposed rule has been assigned Docket ID: OSM-2008-0003.

If you would like to submit comments through the Federal e-Rulemaking Portal, go to www.regulations.gov and do the following. Click on the “Advanced Docket Search” button on the right side of the screen. Type in the Docket ID OSM-2008-0003 and click the “Submit” button at the bottom of the page. The next screen will display the Docket Search Results for the rulemaking. If you click on OSM-2008-0003, you can view the proposed rule and submit a comment. You can also view supporting material and any comments submitted by others.

• Mail/Hand-Delivery/Courier to: Office of Surface Mining Reclamation and Enforcement, Administrative Record, Room 252-SIB, 1951 Constitution Avenue, NW., Washington, DC 20240. Please include the rule Docket ID (OSM-2008-0003) with your comment.

We cannot ensure that comments received after the close of the comment period (see DATES) will be included in the docket for the rulemaking and considered. Comments sent to an address other than those listed above (see ADDRESSES) will not be included in the docket for the rulemaking.

For detailed instructions on submitting comments and additional information on the rulemaking process, see “Public Comment Procedures” in the SUPPLEMENTARY INFORMATION section of this document.

If you wish to comment on the information collection aspects of this proposed rule, you may submit your comments to the Office of Management and Budget, Office of Information and Regulatory Affairs, Attention: Interior Desk Officer, via e-mail to OIRA_DOCKET@omb.eop.gov, or via facsimile to 202-365-6566.

FOR FURTHER INFORMATION CONTACT: Danny Lytton, Chief, Reclamation Support Division, 1951 Constitution Ave., NW., Washington, DC 20240; Telephone: 202-208-2788.

SUPPLEMENTARY INFORMATION:

Background on the Reclamation Fee and the Abandoned Mine Land Program

On June 20, 2008, we published a proposed rule in the Federal Register (73 FR 35214) that would revise our regulations governing the AML program. We have received two requests to extend the comment period on the proposed rule. In response, we are extending the comment period to August 29, 2008.

As discussed in greater detail in the June 20, 2008, Federal Register notice, the proposed rule would revise our regulations to be consistent with the Tax Relief and Health Care Act of 2006, Public Law 109-432, enacted on December 20, 2006, which included the Surface Mining Control and Reclamation Act Amendments of 2006 (the “2006 amendments”). The proposed rule reflects the extension of our statutory authority to collect reclamation fees for an additional fourteen years and to reduce the fee rates. The proposal also updates the regulations in light of the statutory amendments that change the activities State and Tribal reclamation programs may perform under the AML program, funding for reclamation grants to States and Indian tribes, and transfers to the United Mine Workers of America (UMWA) Combined Benefit Fund, the UMWA 1992 Benefit Plan, and the UMWA Multiemployer Health Benefit Plan. Finally, our proposed rule extends incentives reauthorized by the 2006 amendments pertaining to the remining of certain lands and water adversely affected by past mining.

Public Comment Procedures

Written Comments: If you submit written comments, they should be specific, confined to issues pertinent to the proposed rule, and explain the reason for any recommended changes. We appreciate all comments, but those most useful and likely to influence decisions on any revisions will be those that either involve personal experience or include citations to and analyses of SMCRA, its legislative history, its implementing regulations, the 2006 amendments, case law, or other pertinent State or Federal laws or regulations.

We cannot ensure that comments received after the close of the comment period (see DATES) will be included in the docket for the rulemaking and considered. Comments sent to an address other than those listed above (see ADDRESSES) will not be included in the docket for the rulemaking.

Public Availability of Comments: Before including your address, phone number, e-mail address, or other personal identifying information in your comment, you should be aware that your entire comment—including your personal identifying information—may be made publicly available at any time. While you can ask us in your comment to withhold your personal identifying information from public review, we cannot guarantee that we will be able to do so.

Dated: August 8, 2008.
C. Stephen Allred,
Assistant Secretary, Land and Minerals Management.

[FR Doc. E8-19088 Filed 8-15-08; 8:45 am]

BILLING CODE 4310-05-P